DEPARTMENT OF ENERGY

Federal Energy Regulatory Commission

Combined Notice of Filings

Take notice that the Commission has received the following Natural Gas Pipeline Rate and Refund Report filings:

Filings Instituting Proceedings

Docket Numbers: RP16-742-000.

Applicants: Iroquois Gas Transmission System, L.P.

Description: § 4(d) Rate Filing: 03/24/16 Negotiated Rates—Cargill Incorporated (RTS) 3085-26 to be effective 4/1/2016.

Filed Date: 3/24/16.

Accession Number: 20160324-5068.

Comments Due: 5 p.m. ET 4/5/16.

Docket Numbers: RP16-743-000.

Applicants: Iroquois Gas Transmission System, L.P.

Description: § 4(d) Rate Filing: 03/24/16 Negotiated Rates—Cargill Incorporated (RTS) 3085-27 to be effective 4/1/2016.

Filed Date: 3/24/16.

Accession Number: 20160324-5070.

Comments Due: 5 p.m. ET 4/5/16.

Docket Numbers: RP16-744-000.

Applicants: Chesapeake Energy Marketing, L.L.C., FourPoint Energy, LLC.

Description: Joint Petition of Chesapeake Energy Marketing, L.L.C. and FourPoint Energy, LLC For Limited Waiver And Request For Expediated Action under RP16-744.

Filed Date: 3/24/16.

Accession Number: 20160324-5224.

Comments Due: 5 p.m. ET 4/4/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-2107-001.

Applicants: Colorado Interstate Gas Company, L.L.C.

Description: Compliance filing Petition to Amend Docket No. RP11-2107 Stipulation and Agreement.

Filed Date: 3/24/16.

Accession Number: 20160324-5140.

Comments Due: 5 p.m. ET 4/5/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2016.
Nathaniel J. Davis, Sr.,
Deputy Secretary.

[FR Doc. 2016-07374 Filed 3-31-16; 8:45 am]

BILLING CODE 6717-01-P